DEPARTMENT OF HEALTH AND HUMAN SERVICES

Health Resources and Services Administration

Agency Information Collection Activities: Proposed Collection: Public Comment Request; Information Collection Request Title: Small Health Care Provider Quality Improvement Program, OMB No. 0915-0387—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 5, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Small Health Care Provider Quality Improvement Program, OMB No. 0915-0387—Extension.

Abstract: This program is authorized by the Public Health Service Act, section 330A(g) (42 U.S.C. 254c(g)). This authority permits the Federal Office of Rural Health Policy (FORHP) to award Small Health Care Provider Quality Improvement grants that expand access to, coordinate, and improve the quality of basic health care services, and enhance the delivery of health care, in rural areas. Specifically, FORHP may award grants to provide for the planning and implementation of Small Health Care Provider Quality Improvement activities, including activities related to increasing care coordination, enhancing chronic disease management, and improving patient health outcomes.

The purpose of the Small Health Care Provider Quality Improvement Grant Program is to provide support to rural primary care providers for implementation of quality improvement activities. The goal of the program is to promote the development of an evidence-based culture and delivery of coordinated care in the primary care setting. Additional objectives of the program include improved health outcomes for patients, enhanced chronic disease management, and better engagement of patients and their caregivers. Organizations participating in the program are required to use an evidence-based quality improvement model, perform tests of change focused on improvement, and use health information technology (HIT) to collect and report data. HIT may include an electronic patient registry or an electronic health record and is a critical component for improving quality and patient outcomes. With HIT it is possible to generate timely and meaningful data, which helps providers track and plan care. HRSA collects information from grant recipients that participate in this program using an OMB-approved set of performance measures and seeks to extend its approved information collection.

Need and Proposed Use of the Information: For this program, performance measures were drafted to provide data to the program and to enable HRSA to provide aggregate program data required by Congress under the Government Performance and Results Act of 1993. These measures cover the principal topic areas of interest to FORHP, including: (1) access to care, (2) population demographics, (3) staffing, (4) consortium/network, (5) sustainability, and (6) project specific domains. All measures will speak to FORHP's progress toward meeting the goals set. FORHP collects this information to quantify the impact of grant funding on access to health care, quality of services, and improvement of health outcomes. FORHP uses the data for program improvement and grantees use the data for performance tracking. No changes are proposed from the current data collection effort, but FORHP estimates fewer respondents to align with the current cohort of grantees.

Likely Respondents: The respondents would be the grant recipients (program grantees, not patients who receive health care services) of the Small Health Care Provider Quality Improvement Program grants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Performance Improvement and Measurement Systems (PIMS) | 21 | 1 | 21 | 8 | 168
Total | 21 | 1 | 21 | 8 | 168

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-02242 Filed 2-2-24; 8:45 am]

BILLING CODE 4165-15-P